DEPARTMENT OF HEALTH AND HUMAN SERVICES

Office of the Secretary

Findings of Misconduct in Science

AGENCY: Office of the Secretary, HHS.

ACTION: Notice.

SUMMARY: Notice is hereby given that the Office of Research Integrity (ORI), the Assistant Secretary for Health, and another Federal agency have taken final action in the following case:

Juan Carlos Jorge-Rivera, Ph.D., Dartmouth College: Based on the findings of an inquiry conducted by Dartmouth College, an investigation conducted by another Federal agency, and additional analysis conducted by the Office of Research Integrity (ORI) during its oversight review, the U.S. Public Health Service (PHS) found that Juan Carlos Jorge-Rivera, Ph.D., former postdoctoral fellow, Department of Physiology, Dartmouth College, engaged in misconduct in science in research funded by National Institute of Neurological Disorders and Stroke (NINDS), National Institutes of Health (NIH), grant R01 NS28668.

Specifically, Dr. Jorge-Rivera knowingly and intentionally falsified amplifier gain in at least eleven (11) experiments of his postdoctoral research aimed at measuring the effects of anabolic steroids on GABAnergic current in brain cells and reported the falsified data in Figures 4 and 6 of the following paper: Jorge-Rivera, J.C., McIntyre, K.L., & Henderson, L.P. “Anabolic steroids induce region- and subunit-specific modulations of GABA receptor mediated currents in the rat forebrain.” Journal of Neurophysiology 83:3299-3309, 2000.

Dr. Jorge-Rivera has been debarred by the Federal agency with joint jurisdiction for a period of two (2) years, beginning on January 11, 2007, and ending on January 11, 2009.

ORI has implemented the following administrative actions:

(1) For a period of three (3) years, beginning on June 23, 2007, and ending on June 22, 2010, Dr. Jorge-Rivera is prohibited from serving in any advisory capacity to PHS, including but not limited to service on any PHS advisory committee, board, and/or peer review committee, or as a consultant; and

(2) for a period of three (3) years, beginning at the end of his debarment period (January 11, 2009), and ending on January 10, 2012, Dr. Jorge-Rivera must submit, in conjunction with each application for PHS funds, annual reports, manuscripts, or abstracts of PHS-funded research in which he is involved, a certification that the data he provides are based on actual experiments or are otherwise legitimately derived and that the data, procedures, and methodology are accurately reported in the application or report.

FOR FURTHER INFORMATION CONTACT: Director, Division of Investigative Oversight, Office of Research Integrity, 1101 Wootton Parkway, Suite 750, Rockville, MD 20852, (240) 453-8800.

Chris B. Pascal,
Director, Office of Research Integrity.

[FR Doc. E7-15881 Filed 8-13-07; 8:45 am]

BILLING CODE 4150-31-P